DEPARTMENT OF HEALTH AND HUMAN SERVICES

National Institutes of Health

Center for Scientific Review; Amended Notice of Meeting

Notice is hereby given of a change in the meeting of the Center for Scientific Review Special Emphasis Panel, November 9, 2005, 8 a.m. to November 10, 2005, 5 p.m., The Watergate, 2650 Virginia Avenue, NW., Washington, DC 20037 which was published in the Federal Register on November 1, 2005, 70 FR 65914-65918.

The meeting title has been changed to “Innate Immunity and Inflammation.” The meeting is closed to the public.

Dated: November 4, 2005.
Anna Snouffer,
Acting Director, Office of Federal Advisory Committee Policy.

[FR Doc. 05-22689 Filed 11-15-05; 8:45 am]

BILLING CODE 4140-01-M